DEPARTMENT OF COMMERCE

Foreign-Trade Zones Board

[S-98-2020]

Approval of Subzone Status; Signature Express Transport, LLC; Fairfield, Alabama

On June 8, 2020, the Executive Secretary of the Foreign-Trade Zones (FTZ) Board docketed an application submitted by the City of Birmingham Alabama, grantee of FTZ 98, requesting subzone status subject to the existing activation limit of FTZ 98, on behalf of Signature Express Transport, LLC, in Fairfield, Alabama.

The application was processed in accordance with the FTZ Act and Regulations, including notice in the Federal Register inviting public comment (85 FR 35898-35899, June 12, 2020). The FTZ staff examiner reviewed the application and determined that it meets the criteria for approval. Pursuant to the authority delegated to the FTZ Board Executive Secretary (15 CFR Sec. 400.36(f)), the application to establish Subzone 98F was approved on September 14, 2020, subject to the FTZ Act and the Board's regulations, including Section 400.13, and further subject to FTZ 98's 612-acre activation limit.

Dated: September 14, 2020.
Andrew McGilvray,
Executive Secretary.

[FR Doc. 2020-20648 Filed 9-17-20; 8:45 am]

BILLING CODE 3510-DS-P